DEPARTMENT OF LABOR

Employment and Training Administration

[TA-W-85,479]

GDF Suez Mt. Tom Power Plant, a Subsidiary of GDF Suez Energy North America, Including On-Site Leased Workers From Guidant Group and ATEECA, Holyoke, Massachusetts; Amended Certification Regarding Eligibility To Apply for Worker Adjustment Assistance

In accordance with Section 223 of the Trade Act of 1974, as amended (“Act”), 19 U.S.C. 2273, the Department of Labor issued a Certification of Eligibility to Apply for Worker Adjustment Assistance on September 14, applicable to workers of GDF SUEZ Mt. Tom Power Plant, a subsidiary of GDF SUEZ Energy North America, including on-site leased workers from Guidant Group, Holyoke, Massachusetts. The Department's notice of determination was published in the Federal Register on September 11, 2014 (79 FR 179).

In response to a petition filed by the International Brotherhood of Electrical Workers, Local 455 on behalf of workers at GDF SUEZ Energy North America, Holyoke, Massachusetts, the Department reviewed the certification for workers of the subject firm. The workers were engaged in the production of electricity.

The state workforce office reports that on-site leased workers from ATEECA also worked on-site at the subject firm.

Based on these findings, the Department is amending this certification to include on-site leased workers from ATEECA, Holyoke, Massachusetts.

The amended notice applicable to TA-W-85,479 is hereby issued as follows:

All workers of GDF SUEZ Mt. Tom Power Plant, a subsidiary of GDF SUEZ Energy North America, including on-site leased workers from Guidant Group and ATEECA, Holyoke, Massachusetts, who became totally or partially separated from employment on or after August 12, 2013, through September 4, 2016, are eligible to apply for adjustment assistance under Chapter 2 of Title II of the Trade Act of 1974, as amended, and are also eligible to apply for alternative trade adjustment assistance under Section 246 of the Trade Act of 1974, as amended.

Signed in Washington, DC, this 16th day of October, 2014.
Michael W. Jaffe,
Certifying Officer, Office of Trade Adjustment Assistance.

[FR Doc. 2014-27785 Filed 11-24-14; 8:45 am]

BILLING CODE 4510-FN-P